SMALL BUSINESS ADMINISTRATION

Federal and State Technology Partnership Program To Provide Outreach and Technical Assistance to Small Technology-Based Businesses Interested in Becoming Involved or Presently Involved in Federal R&D Programs

AGENCY: Small Business Administration.

ACTION: Program Announcement No. FAST-04-R-0003.

SUMMARY: The U.S. Small Business Administration (SBA) plans to issue Program Announcement No. FAST-04-R-0003 and invite applicants from the 50 states, the District of Columbia, American Samoa, Guam, Virgin Islands and the Commonwealth of Puerto Rico to conduct outreach and provide technical assistance services to technology-based small business owners. This program is authorized by § 34(c) of the Small Business Act (15 U.S.C. 657d(c)). There is a one proposal per state limitation on this competition. Only one proposal from each state may be submitted to SBA for consideration, and this application must have an original, signed Letter of Endorsement from the State Governor (Mayor for the District of Columbia). Prospective recipients of SBA funding under this Program Announcement include both new applicants and current FAST Program service providers. Eligible applicants include, but are not limited to, state and local Economic Development Agencies, colleges and universities and Small Businesses Development Centers. Funds will be provided to conduct programs for a 12-month budget and performance period. Applications/proposals must be postmarked by 4 p.m., Eastern Daylight Time, May 5, 2004. If using a delivery service other than the U.S. Postal Service, the application must be delivered and accepted by the Office of Procurement and Grants Management by the deadline specified above. SBA will select successful applicants using a competitive process. Applications will be reviewed and awarded simultaneously for new and incumbent applicants under this Announcement. Applicants must plan to target women and minority small businesses as well as those small businesses not traditionally involved in the SBIR/STTR programs. Applicants' technical proposal must contain information about its current status and past performance (incumbent applicant's only), and a plan describing how the effort will be sustained once the grant expires. The FAST Program is authorized through Fiscal Year 2005 and will be competed annually, subject to availability of funds. There is a cascading non-Federal match requirement for this program. The non-federal match requirement ratios are based on state rankings derived from FY 2002 Phase I SBIR awards. These ratios are 1:1, 2:1, and 3:4. The program announcement will be available at http://www.sba.gov/sbir.

DATES: The application period will be from March 11, 2004 until May 5, 2004.

FOR FURTHER INFORMATION CONTACT: Cherina Hughes, (202) 205-7344 regarding the Program Announcement and Patricia Branch, (202) 205-7081 about budget matters.

Edsel M. Brown, Jr.,
Assistant Administrator, SBA Office of Technology.

[FR Doc. 04-6352 Filed 3-19-04; 8:45 am]

BILLING CODE 8025-01-P